DEPARTMENT OF HEALTH AND HUMAN SERVICES

Administration for Children and Families

Proposed Information Collection Activity; Comment Request

Proposed Projects:

Title: Federal Case Registry (FCR)

OMB No.: 0970-0421.

Description: Established within the Federal Parent Locator Service (FPLS) on October 1, 1998, the Federal Case Registry (FCR) is a database that contains basic case and participant data from each of the State Case Registries (SCR). The SCRs are central registries of child support cases and orders in each state.

The FCR is a national database that includes all child support cases handled by state child support agencies (referred to as IV-D cases), and all support orders established or modified on or after October 1, 1998 (referred to as non-IV-D orders). It assists states in locating parties that live in different states to establish, modify, or enforce child support obligations; establish paternity; enforce state law regarding parental kidnapping; and, establish or enforce child custody or visitation determinations.

While information in the FCR is provided through the SCRs, the FCR is not a duplication of all of the data maintained in each state's automated child support system. Rather, it is a database of the most basic case and participant information.

When a state sends the FCR information about persons in a new case or child support order, this new information is automatically compared to existing person information in the FCR. If matches are found, the FPLS notifies all appropriate state child support enforcement agencies of the record match. In this way, a state will know if another state has a case or support order with participants in common with them, and can take appropriate action. The data in the FCR is also compared to the employment data in the National Directory of New Hires (NDNH).

The information collection activities pertaining to the FCR are authorized by:

(1) 42 U.S.C. 653(h), requiring the establishment of the Federal Case Registry (FCR) within the Federal Parent Locator Service (FPLS).

(2) 42 U.S.C. 654A(e), requiring State child support agencies to include a State Case Registry (SCR) in the state's automated system.

(3) 42 U.S.C. 654A(f)(1), requiring states to conduct information comparison activities between the SCR and the FCR.

Respondents: State Child Support Agencies and Courts

Annual Burden Estimates
Instrument | Number of respondents | Number of responses per respondent | Average burden hours per response | Total burden hours
Collection of non-IV-D data for SCR: Courts | 824 | 1544 | 0.0205 | 26,081
Collection of Child Data for IV-D cases for SCR: Courts | 3,144 | 144 | 0.0205 | 9,281
States: Transmission to the FCR | 54 | 18,848 | 0.033 | 33,926

Estimated Total Annual Burden Hours: 69,289

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-07317 Filed 4-11-17; 8:45 am]

BILLING CODE 4184-01-P